DEPARTMENT OF HEALTH AND HUMAN SERVICES

Centers for Disease Control and Prevention

[30Day-21-20KN]

Agency Forms Undergoing Paperwork Reduction Act Review

In accordance with the Paperwork Reduction Act of 1995, the Centers for Disease Control and Prevention (CDC) has submitted the information collection request titled “Promoting Adolescent Health through School-Based HIV/STD Prevention Reporting Templates.” to the Office of Management and Budget (OMB) for review and approval. CDC previously published a “Proposed Data Collection Submitted for Public Comment and Recommendations” notice on March 9, 2020 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Promoting Adolescent Health through School-Based HIV/STD Prevention Reporting Templates—New—Division of Adolescent and School Health (DASH), National Center for HIV/AIDS, Viral Hepatitis, STD, and TB Prevention (NCHHSTP), Centers for Disease Control and Prevention (CDC).

Background and Brief Description

PS18-1807 Promoting Adolescent Health through School-Based HIV/STD Prevention was awarded August 1, 2018 with a five-year project period. It is funded through the Division of Adolescent and School Health (DASH).

Health behaviors during adolescence set the stage for behaviors and health into adulthood. In 2017, 40% of high school students in the US had ever had sexual intercourse and 29% were currently sexually active. Among currently sexually active students, 46% did not use a condom, and 14% did not use any method to prevent pregnancy the last time they had sexual intercourse. In 2016, young people aged 13-24 accounted for an estimated 21% of all new HIV diagnoses in the United States. Half of the nearly 20 million new STDs reported each year were among young people aged 15-24.

Schools have direct contact with over 50 million students for at least six hours a day over 13 key years of their social, physical, and intellectual development. Schools can help understand and prevent adolescent risk for HIV, STD and teen pregnancy. Schools play an important role in HIV/STD prevention. Schools can influence students' risk for HIV infection and other STD through parental engagement, health education, connection to physical and mental health services, and connecting youth to each other and important adults.

The PS18-1807 award supports implementation of activities at multiple levels of the education system to achieve health goals. School curricula, policies, and services are generally locally determined by local education agencies (LEA), or local school districts, with guidance from state education agencies (SEA). LEA and SEA both provide training, resources, and technical assistance to schools. SEA establish supportive state environments for local decision making about school policies and practices. LEA support implementation of school-based strategies through district level actions and decisions. Recognizing the importance of locally tailoring approaches, PS18-1807 uses priority schools within a district, or LEA, as a natural laboratory for working through program implementation details before scaling up—or diffusing—activities to all schools in a district. This approach supports close connections with decision-makers responsible for educational options and school environments at each of these levels. Additional support from organizations with specialized expertise and capacity for national reach will be used to increase the impact of SEA and LEA strategies. They provide a range of highly trained experts for professional development and technical assistance to advance HIV/STD prevention work.

The Centers for Disease Control and Prevention requests a three-year OMB approval to conduct three (3) information collections entitled, “Promoting Adolescent Health through School-Based HIV/STD Prevention Reporting Templates.” There are separate reporting templates and work plan templates for Component 1 reporting and for Component 2 reporting. Eighty (80) sites will be filling out the Component 1 reporting template and work plan template; twenty-five (25) sites will be filling out the Component 2 reporting template and two work plan templates (required programmatic activities work plan and professional development work plan).

The Component 1 information collection uses a self-administered reporting template to assess surveillance activities conducted by recipient education and health agencies funded by the Centers for Disease Control and Prevention, Division of Adolescent and School Health under Component 1 of PS18-1807 Promoting Adolescent Health through School-Based HIV/STD Prevention. This data collection will provide DASH with data to generate internal reports that will identify successful and problematic surveillance areas. In addition, the information collection will allow DASH to determine if recipient agencies are completing the required activities of the NOFO on time, as well as identifying problems in implementation. With this information, DASH can ascertain if additional technical assistance is needed to help recipients improve their surveillance implementation if necessary. The reporting template will include questions on the following topics: Youth Risk Behavior Survey completion and School Health Profiles (Profiles) completion. No personally identifiable information will be collected.

The Component 2 information collection uses a self-administered reporting template to assess HIV and STD prevention efforts conducted by local education agencies (LEA) funded by the Centers for Disease Control and Prevention, Division of Adolescent and School Health under Component 2 of PS18-1807 Promoting Adolescent Health through School-Based HIV/STD Prevention. This data collection will provide DASH with data to generate internal reports that will identify successful and problematic programmatic areas. In addition, both information collections will allow DASH to determine if recipient agencies are completing the required activities of the NOFO on time, as well as identifying problems in implementation. With this information, DASH can ascertain if additional technical assistance is needed to help recipients improve their program implementation if necessary. In addition, the findings will allow CDC to determine the potential impact of currently recommended strategies and make changes to those recommendations if necessary. The reporting template will include sections on the following topics: Sexual health education (SHE), sexual health services (SHS), safe and supportive environments (SSE) required and additional activities. No personally identifiable information will be collected.

The estimated burden per response ranges from eight (8) hours for Component 1 to fourteen (14) hours for Component 2. Recipients will complete the reporting templates every six months and the work plan templates once a year under this approval. Annualizing the collection over one-year results in an estimated annualized burden of 3,320 hours for respondents. There are no costs to respondents other than their time.

Estimated Annualized Burden Hours
Type of respondents | Form name | Number of respondents | Number of responses per respondent | Average burden per response (in hours)
Surveillance recipients | Promoting Adolescent Health through School-Based HIV/STD Prevention Component 1 Reporting Template and Work Plan | 80 | 3 | 8
Local education agency HIV prevention recipients | Promoting Adolescent Health through School-Based HIV/STD Prevention Component 2 Reporting Template and Work Plans (required programmatic activities work plan and professional development work plan) | 25 | 4 | 14

Jeffrey M. Zirger,
Lead, Information Collection Review Office, Office of Scientific Integrity, Office of Science, Centers for Disease Control and Prevention.

[FR Doc. 2020-22486 Filed 10-9-20; 8:45 am]

BILLING CODE 4163-18-P